DEPARTMENT OF COMMERCE

National Oceanic and Atmospheric Administration

[Docket No. 030602141-3141-01; I.D. 061703A]

RIN 0648-ZB55

Availability of Grant Funds for Fiscal Year 2004

AGENCY: National Oceanic and Atmospheric Administration (NOAA), Department of Commerce (DOC).

ACTION: Omnibus Notice Announcing the Availability of Grant Funds for Fiscal Year 2004.

SUMMARY: The National Oceanic and Atmospheric Administration (NOAA) announces the availability of grant funds for Fiscal Year 2004. The purpose of this notice is to provide the general public with a single source of program and application information related to the Agency's competitive grant offerings, and it contains the information about those programs required to be published in the Federal Register. This omnibus notice is designed to replace the multiple Federal Register notices that traditionally advertised the availability of NOAA's discretionary funds for its various programs. It should be noted that additional program initiatives unanticipated at the time of the publication of this notice may be announced through both subsequent Federal Register notices and the NOAA web site: http://www.ofa.noaa.gov/~amd/SOLINDEX.HTML.

DATES: Proposals must be received by the date and time indicated under each program listing in the SUPPLEMENTARY INFORMATION section.

ADDRESSES: Proposals must be submitted to the addresses listed in the SUPPLEMENTARY INFORMATION section for each program.

FOR FURTHER INFORMATION CONTACT: For a copy of the full funding opportunity announcement and/or application kit, please contact the person listed as the information contact under each program or access it via NOAA's web site: http://www.ofa.noaa.gov/~amd/SOLINDEX.HTML.

SUPPLEMENTARY INFORMATION:

Electronic Access

The full funding announcement for each program is available via web site: http://www.ofa.noaa.gov/~amd/SOLINDEX.HTML or by contacting the program official identified below. These announcements will also be available through FedGrants at http://www.fedgrants.gov.

Evaluation Criteria & Selection Procedures

NOAA standardized the evaluation and selection process for all of its competitive and non-competitive assistance programs. All proposals submitted in response to this notice shall be evaluated and selected in accordance with the following procedures. There are two sets of evaluation criteria and selection procedures, one for project proposals, and the other for fellowship, scholarship, and internship programs. These evaluation criteria and selection procedures apply to all of the programs included below.

Proposal Review and Selection Process for Projects

Some programs may include a pre-application process which provides an initial review and feedback to the applicants that have responded to a call for “letters of intent” or “pre-proposals;” however, not all programs will include such a process. If a pre-application process is used by a program, it shall be described in the Summary Description and the deadline shall be provided in the Application Deadline section. Once a full application has been received by NOAA, an initial administrative review is conducted to determine compliance with requirements and completeness of the application. Merit review is conducted by mail reviewers and/or peer panel reviewers. Each reviewer will individually evaluate and rank proposals using the evaluation criteria provided below. A minimum of three merit reviewers per proposal is required. The merit reviewers' ratings are used to produce a rank order of the proposals. The NOAA Program Officer may review the ranking of the proposals and make recommendations to the Selecting Official based on the mail and/or panel review(s) and selection factors listed below. The Selecting Official selects proposals after considering the mail and/or peer panel review(s) and recommendations of the Program Officer. In making the final selections, the Selecting Official will award in rank order unless the proposal is justified to be selected out of rank order based upon one or more of the selection factors below. The Program Officer and/or Selecting Official may negotiate the funding level of the proposal. The Selecting Official makes final recommendations for award to the Grants Officer who is authorized to obligate the funds.

Evaluation Criteria for Projects

1. Importance and/or relevance and applicability of proposed project to the program goals: This ascertains whether there is intrinsic value in the proposed work and/or relevance to

NOAA, federal, regional, state, or local activities.

2. Technical/scientific merit: This assesses whether the approach is technically sound and/or innovative, if the methods are appropriate, and whether there are clear project goals and objectives.

3. Overall qualifications of applicants: This ascertains whether the applicant possesses the necessary education, experience, training, facilities, and administrative resources to accomplish the project.

4. Project costs: The Budget is evaluated to determine if it is realistic and commensurate with the project needs and time-frame.

5. Outreach and education: NOAA assesses whether this project provides a focused and effective education and outreach strategy regarding NOAA's mission to protect the Nation's natural resources.

Selection Factors for Projects

The merit review ratings shall provide a rank order to the Selecting Official for final funding recommendations. A program officer may first make recommendations to the Selecting Official applying the selection factors below. The Selecting Official shall award in the rank order unless the proposal is justified to be selected out of rank order based upon one or more of the following factors:

1. Availability of funding.

2. Balance/distribution of funds:

a. Geographically

b. By type of institutions

c. By type of partners

d. By research areas

e. By project types

3. Whether this project duplicates other projects funded or considered for funding by NOAA or other federal agencies.

4. Program priorities and policy factors.

5. Applicant's prior award performance.

6. Partnerships and/or Participation of targeted groups.

NOAA Project Competitions

This omnibus notice describes funding opportunities for the following NOAA discretionary grant programs:

National Environmental Satellite, Data, and Information Service (NESDIS)

1. Research in Satellite Data Assimilation for Numerical and Climate Prediction Models

Summary Description: The Joint Center for Satellite Data Assimilation (JCSDA) announces the availability of Federal assistance for research in the area of satellite data assimilation in numerical weather and climate prediction models. The goal of the JCSDA is to accelerate the use of observations from earth-orbiting satellites in operational numerical prediction models for the purpose of improving weather forecasts, improving seasonal to interannual climate forecasts, and increasing the physical accuracy of climate data sets. The advanced instruments of current and planned NOAA, NASA, DoD, and international agency satellite missions will provide large volumes of data on atmospheric, oceanic, and land surface conditions with accuracies and spatial resolutions never before achieved. The JCSDA will ensure that the nation realizes the maximum benefit of its investment in space as part of an advanced global observing system. Funded proposals will help accelerate the use of satellite data from both operational and experimental spacecraft in operational and product driven weather and climate prediction environments, develop community radiative transfer models, develop improved surface emissivity models, and advance data assimilation science. This Federal Funding Opportunity is being managed by NOAA on behalf of the JCSDA. Applicants are encouraged to submit a letter of Intent (LOI) describing the proposed work. and its relevance to project areas. The purpose of the LOI process is to provide information to potential applicants on the relevance of their proposed project to JCSDA and the likelihood of it being funded in advance of preparing a full proposal.

Funding Availability: Total funding available is anticipated to be approximately $1 million. Individual annual awards in the form of grants or cooperative agreements are expected to range from $50,000 to $150,000, although greater amounts may be awarded.

Statutory Authority: Statutory authority for this program is provided under 49 U.S.C. 44720(b); 33 U.S.C. 833d; 15 U.S.C. 5631, 15 U.S.C. 2904.

Catalog of Federal Domestic Assistance (CFDA) Number: 11.440, Environmental Sciences, Applications, Data, and Education.

Preapplication/Application Deadline: If an applicant opts to submit a Letter of Intent, the Letter of Intent must be received by the National Environmental Satellite, Data, and Information Service (NESDIS), no later than 5:00 p.m., local time on August 1, 2003, and full proposals must be received no later than 5:00 p.m., local time on October 1, 2003.

Address for Submitting Letters of Intent and Proposals: Joint Center for Satellite Data Assimilation, 5200 Auth Road, Room 701, Camp Springs, MD 20746-4304.

Information Contact(s): Fuzhong Weng, JCSDA, 5200 Auth Road, Room 810; Camp Springs, Maryland 20746, or by phone at 301-763-8251, or fax to 301-763-8580, or via internet at Fuzhong.Weng@noaa.gov or Christine.L.Brown, NOAA/NESDIS; 5200 Auth Road, Room 701; Camp Springs, Maryland 20746, or by phone at 301-763-8127 ext. 107 , or fax to 301-763-8108, or via internet at Christine.L.Brown@noaa.gov.

Eligibility: Eligible applicants are Federal agencies, institutions of higher education, other non-profits, commercial organizations, state, local and Indian tribal governments.

Cost Sharing Requirements: None.

Intergovernmental Review: Applications under this program are not subject to Executive Order 12372, “Intergovernmental Review of Federal Programs.”

2. Research in Satellite Oceanography

Summary Description: The NESDIS Office of Research and Applications (ORA) announces the availability of Federal assistance in the area of satellite oceanography. This program responds to a need for research and activities that expand the use of satellite oceanographic data. Funded proposals will help build capabilities nationwide in the application of satellite oceanographic data for environmental monitoring, prediction and coastal management.

Funding Availability: The total amount available is currently expected to be approximately $375,000. It is anticipated that 3 or 4 awards will be made from this budget. This program announcement is for projects to be conducted for a 1-year, or 2-year period. Individual awards are expected to range from a minimum of $50,000 to a maximum of $125,000 per year for no more than two years.

Statutory Authority: Statutory authority for this program is provided under 33 U.S.C. 1442 and 49 U.S.C. 44720(b).

Catalog of Federal Domestic Assistance (CFDA) Number: 11.440, Environmental Sciences, Applications, Data, and Education.

Application Deadline: 4:00 p.m., EDT, on August 23, 2003.

Address for Submitting Proposals: Proposals must be submitted to the Office of Research and Applications, NOAA/NESDIS, 5200 Auth Road, Room 701, Camp Springs, MD 20746-4304. Proposals should be sent to the attention of William Pichel.

Information Contacts: Administrative questions: Christine Brown, telephone (301) 763-8127 ext. 107, fax: 301-763-8108, or e-mail: Chistine.L.Brown@noaa.gov. Technical questions: William Pichel, telephone: (301) 763-8231 ext. 166, fax: 301-763-8020, e-mail: William.G.Pichel@noaa.gov.

Eligibility: Institutions of higher education, other non-profits, commercial organizations, and state, local and Indian tribal governments.

Cost Sharing Requirements: None

Intergovernmental Review: Applications under this program are not subject to Executive Order 12372, “Intergovernmental Review of Federal Programs.”

National Marine Fisheries Service (NMFS)

1. Community-based Habitat Restoration National and Regional Partnerships

Summary Description: NMFS is inviting the public to submit multi-year proposals for establishing innovative habitat restoration partnerships at the national or regional level for up to 3 years to further community-based habitat restoration that will benefit living marine resources, including anadromous fish, under the NOAA Community-based Restoration Program (CRP). Proposals for partnerships funded through the CRP will involve joint selection and co-funding of multiple community-based habitat restoration projects as sub-awards made through the partner organization. Proposals selected for funding through this solicitation will be implemented through either a cooperative agreement or interagency transfer.

Funding Availability: Funding of up to $7,000,000 is expected to be available for establishing multi-year partnerships in FY 2004; annual funding is anticipated to maintain successful partnerships for up to 3 years duration. The NOAA Restoration Center (RC) anticipates that typical partnership awards will range from $200,000 to $600,000 per year, funded annually.

Statutory Authority: The Secretary of Commerce is authorized under the Fish and Wildlife Coordination Act, 16 U.S.C. 661, as amended by the Reorganization Plan No. 4 of 1970, to provide grants or cooperative agreements for fisheries habitat restoration.

CFDA: 11.463 Habitat Conservation.

Application Deadline: Applications for partnership funding under the CRP must be received by or postmarked by December 5, 2003.

Address for submitting Proposals: Send applications to Christopher D. Doley, Director, NOAA Restoration Center, National Marine Fisheries Service, 1315 East West Highway (F/HC3), Silver Spring, MD 20910-3282; ATTN: CRP Partnership Applications.

Information Contact(s): Robin Bruckner, Alison Ward or Melanie Severin at (301)713-0174, or by fax at (301) 713-0184, or by e-mail at Robin.Bruckner@noaa.gov, Alison.Ward@noaa.gov or Melanie.Severin@noaa.gov.

Eligibility: Eligible applicants are institutions of higher education, hospitals, other non-profits, commercial (for profit) organizations, organizations under the jurisdiction of foreign governments, international organizations, state, local and Indian tribal governments. Applications from federal agencies will be considered. Before non-NOAA federal applicants may be funded, they must demonstrate that they have legal authority to receive funds from another federal agency in excess of their appropriation.

Cost Sharing Requirements: 1:1 non-Federal match is encouraged, but applicants with less than 1:1 match will not be disqualified.

Intergovernmental Review: Applications under this program are subject to Executive Order 12372, “Intergovernmental Review of Federal Programs.”

2. Community-based Habitat Restoration Projects

Summary Description: NMFS is inviting the public to submit proposals for available funding to implement grass-roots habitat restoration projects that will benefit living marine resources, including anadromous fish, under the NOAA Community-based Restoration Program (CRP). Projects funded through the CRP will be expected to have strong on-the-ground habitat restoration components that provide educational and social benefits for people and their communities in addition to long-term ecological habitat improvements for NOAA trust resources. Proposals selected for funding through this solicitation will be implemented through either a project grant, cooperative agreement, or interagency transfer.

Funding Availability: Funding of up to $3,000,000 is expected to be available for community-based habitat restoration projects in FY 2004. The NOAA Restoration Center (RC) anticipates that typical project awards will range from $50,000 to $200,000.

Statutory Authority: The Secretary of Commerce is authorized under the Fish and Wildlife Coordination Act, 16 U.S.C. 661, as amended by the Reorganization Plan No. 4 of 1970, to provide grants or cooperative agreements for fisheries habitat restoration.

CFDA: 11.463 Habitat Conservation.

Application Deadline: Applications for project funding under the CRP must be received by or postmarked by September 12, 2003.

Address for submitting Proposals: Send applications to Christopher D. Doley, Director, NOAA Restoration Center, National Marine Fisheries Service, 1315 East West Highway (F/HC3), Silver Spring, MD 20910-3282; ATTN: CRP Project Applications.

Information Contact(s): Robin Bruckner, Alison Ward or Melanie Severin at (301) 713-0174, or by fax at (301) 713-0184, or by e-mail at Robin.Bruckner@noaa.gov, Alison.Ward@noaa.gov or Melanie.Severin@noaa.gov.

Eligibility: Eligible applicants are institutions of higher education, hospitals, other non-profits, commercial (for profit) organizations, organizations under the jurisdiction of foreign governments, international organizations, state, local and Indian tribal governments. Applications from federal agencies will be considered. Before non-NOAA federal applicants may be funded, they must demonstrate that they have legal authority to receive funds from another federal agency in excess of their appropriation.

Cost Sharing Requirements: 1:1 non-Federal match is encouraged, but applicants with less than 1:1 match will not be disqualified.

Intergovernmental Review: Applications under this program are subject to Executive Order 12372, “Intergovernmental Review of Federal Programs.”

3. Fisheries Development and Utilization Research and Development Grants and Cooperative Agreements Program (also know as the Saltonstall-Kennedy (S-K) Grant Program)

Summary Description: The Saltonstall-Kennedy Act established a fund to provide grants or cooperative agreements for fisheries research and development projects addressed to any aspect of U.S. fisheries, including, but not limited to, harvesting, processing, aquaculture, marketing, and associated infrastructures. The Saltonstall-Kennedy Grant Program supports projects aimed at helping fishing communities to prevent overfishing, rebuild fisheries and ensure conservation, while realizing the full potential of fishery resources.

Funding Availability: Funding is subject to the availability of an allocation. The Program does not yet have funding for FY 2004, although it estimates that approximately $4 million will be available. The Program does not specify a minimum or maximum dollar amount for individual awards.

Statutory Authority: 15 U.S.C. 713c-(3)(1).

CFDA: 11.427, Fisheries Development and Utilization Research and Development Grants and Cooperative Agreements.

Application Deadline: Applications must be received by local close of business at one of the addresses listed below on August 29, 2003.

Address for Submitting Proposals: You must submit applications to one of the following NMFS Regional Administrator or Headquarters offices:

Northeast Region, NMFS, One Blackburn Drive, Gloucester, MA 01930; (978) 281-9267.

Southeast Region, NMFS, 9721 Executive Center Drive, North, St. Petersburg, FL 33702-2432, (727) 570-5324.

Southwest Region, NMFS, 501 West Ocean Boulevard, Suite 4200, Long Beach, CA 90802-4213, (562) 980-4033.

Pacific Islands Region, NMFS, 1601 Kapiolani Boulevard, Suite 1110, Honolulu, HI 96814-4700, (808) 973-2937.

Northwest Region, NMFS, 7600 Sand Point Way, N.E., BIN C15700, Building 1, Seattle, WA 98115, (206) 526-6115.

Alaska Region, NMFS, P.0. Box 21668, Juneau, AK 99802 or Federal Building, 709 West 9th Street, 4th Floor, Juneau, AK 99801-1668, (907) 586-7224.

Financial Services Division, NMFS F/CS2, 1315 East West Highway, Silver Spring, MD 20910, (301) 713-2358.

Information Contact(s): Alicia L. Jarboe, S-K Program Manager, F/CS2, Room 13112, 1315 East West Highway, Silver Spring, MD 20910-3282, tel. (301) 713-2358, or by email at: alicia.jarboe@noaa.gov. You may also contact the NMFS Regional Federal Program Officers, at the addresses and telephone numbers listed above.

Eligibility: Eligible applicants must be; (1) a citizen or national of the United States; (2) a citizen of the Northern Mariana Islands (NMI), being an individual who qualifies as such under section 8 of the Schedule on Transitional Matters attached to the constitution of the NMI; (3) a citizen of the Republic of the Marshall Islands, Republic of Palau, or the Federated States of Micronesia; or (4) represent an entity that is an institution of higher education, other nonprofit, commercial organization, state, local or Indian tribal government, if such entity is a citizen of the United States or NMI, within the meaning of section 2 of the Shipping Act, 1916, as amended.

Cost Sharing Requirements: Applicants must provide a minimum cost share of 10 percent of total (Federal and non-Federal combined) project costs, but the cost share must not exceed 50 percent of total costs.

Intergovernmental Review: Applications under this program are subject to Executive Order 12372, “Intergovernmental Review of Federal Programs.”

4. Cooperative Research Program, Research and Development Projects in the Gulf of Mexico and off the U.S. South Atlantic Coastal States

Summary Description: NMFS announces the availability of Federal assistance under the Cooperative Research Program (CRP) Grant Program. We provide financial assistance for research and development projects that optimize the use of fisheries in the Gulf of Mexico and along the Atlantic coast involving the U.S. fishing industry (commercial and recreational), including fishery biology, resource assessment, socio-economic assessments, management and conservation, selected harvest methods, and fish handling and processing.

Funding Availability: Approximately $2 million may be available through this announcement for fiscal year 2004.

Statutory Authority: The authorizing statute for the Cooperative Research Program is 15 U.S.C. 713c-3(d).

CDFA: 11.454, Unallied Management Projects.

Application Deadline: We must receive your application by close of business (5:00 p.m. EDT) on August 14, 2003. Applications received after that time will not be considered for funding. The earliest start date of awards is about 300 days after the date of publication of this notice.

Address for submitting Proposals: You can obtain an application package from, and send your completed application(s)to: National Marine Fisheries Service, State/Federal Liaison Office, 9721 Executive Center Drive, N., St. Petersburg, FL 33702. You may also obtain the application package from the CRP homepage at: http://caldera.sero.nmfs.gov/grants/programs/crp.htm

Information Contact(s): Ellie Francisco Roche, Chief, State/Federal Liaison Office, (727)570-5324.

Eligibility: Eligible applicants include institutions of higher education, other nonprofits, commercial organizations, state governments, and private citizens. Federal agencies or institutions are not eligible. Foreign governments, organizations under the jurisdiction of foreign governments, and international organizations are excluded for purposes of this solicitation since the objective of the CRP is to optimize research and development benefits from U.S. marine fishery resources.

Cost Sharing Requirements: Cost-sharing is not required for the CRP.

Intergovernmental Review: Applications under this program are subject to the provisions of Executive Order 12372, “Intergovernmental Review of Federal Programs.”

5. General Coral Reef Conservation

Summary Description: Funding will support efforts by educational and non-governmental institutions to conserve the coral reef ecosystems of the United States and the Freely Associated States in the Pacific (Republic of Palau, the Republic of the Marshall Islands, and the Federated States of Micronesia). The objective of this program is to support programs and projects to help preserve, sustain and restore the condition of coral reef ecosystems, promote the wise management and sustainable use of coral reef resources, and increase public knowledge and awareness of coral reef ecosystems and issues regarding their conservation. NMFS will accept preapplications for peer review. Applications for research activities will not be eligible under this category. This program is part of the Coral Reef Conservation Act of 2000 which provides matching grants of financial assistance for coral reef conservation projects. Selected applicants may be asked to revise award objectives, work plans or budgets prior to submittal of a final application, including required Federal financial assistance forms, to NMFS.

Funding Availability: NMFS will provide approximately $400,000 in funding in FY 2004 for awards. It is expected that most awards will range from a minimum of $15,000 to a maximum of $50,000. Funding will be subject to the availability of federal appropriations.

Statutory Authority: 16 U.S.C. 6403.

CFDA: 11.463 Habitat Conservation.

Preapplication/Application Deadline: Preapplications are due to NOAA before midnight, EDT, on March 12, 2004. Final applications are due to NOAA before midnight, EDT on June 4, 2004.

Address for submitting Proposals: David Kennedy, NOAA Coral Reef Conservation Program, Office of Response and Restoration, N/ORR, Room 10102, NOAA National Ocean Service, 1305 East West Highway, Silver Spring, MD 20910

Information Contact(s): Andy Bruckner, Office of Habitat Conservation, F/HC1, Room 14717, NOAA Fisheries,1315 East West Highway, Silver Spring, MD 20910, phone 301-713-3459 extension 190, e-mail at andy.bruckner@noaa.gov.

Eligibility: Eligible applicants include institutions of higher education, non-profit organizations, commercial organizations, and local and Indian tribal governments. U.S. State, Territory, and Commonwealth and Freely Associated State Government Agencies are not eligible under this program. Federal agencies are eligible under this program; however, such applications will be a low priority unless they are an essential part of a cooperative project with other eligible educational or non-governmental institutions.

Cost Sharing Requirements: Any coral conservation project funded under this program requires a 1:1 match. Matching funds must be from non-Federal sources and can include in-kind contributions and other non-cash support. The NOAA Administrator may waive all or part of the matching requirement if the Administrator determines that the project meets the following two requirements: (1) No reasonable means are available through which an applicant can meet the matching requirement, and (2) The probable benefit of such project outweighs the public interest in such matching requirement.

Intergovernmental Review: Applications under this program are subject to Executive Order 12372, “Intergovernmental Review of Federal Programs.”

6. Projects to Improve or Amend Coral Reef Fishery Management Plans

Summary Description: The object of this program is support value-added studies or projects that will enhance the conservation of coral reef fishery resources by the Regional Fishery Management Councils with responsibilities for Fishery Management Plans that include coral reefs or fishery resources that depend on these reef ecosystems. It is not intended to support normal Council activities or responsibilities. While first priority will be given to proposals for coral reef activities in the Council's jurisdiction, proposals for complementary activities of high conservation value within state waters that are fully coordinated with appropriate state, territory or commonwealth management authorities will also be accepted. This program is part of the Coral Reef Conservation Act of 2000 which provides matching grants of financial assistance for coral reef conservation projects. NMFS will accept preapplications for peer review. Selected applicants may be asked to revise award objectives, work plans or budgets prior to submittal of a final application, including required Federal financial assistance forms, to NMFS.

Funding Availability: NMFS will provide approximately $1,050,000 in funding in FY 2004. In order to ensure regional balance, a maximum of $525,000 will be available for activities in the Western Pacific, and a maximum of $525,000 will be available for activities in the South Atlantic, Gulf of Mexico, and Caribbean. Funding will be subject to the availability of federal appropriations.

Statutory Authority: 16 U.S.C. 6403.

CFDA: 11.441 Regional Fishery Management Councils.

Preapplication/Application Deadline: Preapplications are due to NOAA before midnight, EST, on March 12, 2004. Final applications are due to NOAA before midnight, EDT on June 4, 2004.

Address for submitting Proposals: David Kennedy, NOAA Coral Reef Conservation Program, Office of Response and Restoration, N/ORR, Room 10102, NOAA National Ocean Service, 1305 East West Highway, Silver Spring, MD 20910.

Information Contact(s): Andy Bruckner, Office of Habitat Conservation, F.HC1, Room 14717, NOAA Fisheries, 1315 East West Highway, Silver Spring, MD 20910, phone 301-713-3459 extension 190, e-mail at andy.bruckner@noaa.gov.

Eligibility: Applicants are limited to the Western Pacific Regional Fishery Management Council, South Atlantic Fishery Management Council, Gulf of Mexico Fishery Management Council, and Caribbean Fishery Management Council.

Cost Sharing Requirements: none.

Intergovernmental Review: Applications under this program are not subject to Executive Order 12372, “Intergovernmental Review of Federal Programs.”

National Ocean Service (NOS)

1. FY 04 Career Program Announcement of Funding Opportunity for Undergraduate, Graduate, and Recently Graduated Students Concerning Career Development in Coastal Ocean Science, Management, and Policy.

Summary Description: NOS/NCCOS/CSCOR/COP is soliciting 1-year and 2-year proposals for career development programs commencing in late Fiscal Year (FY) 2004 with an anticipated start date of July 1, 2004. The purpose of these awards will be to support activities designed to facilitate and/or enhance the development of qualified professionals in the fields of coastal ocean science, management, and policy. The coastal ocean is inclusive of the near shore ocean, estuaries, and the Great Lakes. This notice solicits applications for proposals from eligible non-Federal applicants. Proposals selected for funding from non-Federal researchers will be funded through a project grant. Proposals from academic institutions, particularly those that are Minority Serving Institutions (MSIs), collaborate with MSIs, or serve minority students, are strongly encouraged.

Statutory Authority: 15 U.S.C. 1540.

CFDA NUMBER: 11.478, Center for Sponsored Coastal Ocean Research/Coastal Ocean Program (CSCOR/COP).

Application Deadline: The deadline for receipt of proposals at the NCCOS/CSCOR/COP office is 3:00 p.m., local time, January 14, 2004. (Note that late-arriving applications provided to a delivery service on or before January 14, 2004, with delivery guaranteed before 3:00 p.m., local time, on January 14, 2004, will be accepted for review if the applicant can document that the application was provided to the delivery service with delivery to the address listed below guaranteed by the specified closing date and time and, in any event, the proposals are received in the NCCOS/CSCOR/COP office by 3:00 p.m. local time, no later than two business days following the closing date.) Subject to the availability of funds and facilities, it is anticipated that final decisions on awards will be made by early March, 2004.

Addresses for submitting proposals: Center for Sponsored Coastal Ocean Research/Coastal Ocean Program (N/SCI2), National Oceanic and Atmospheric Administration, 1305 East-West Highway, SSMC4, 8th Floor Station 8243, Silver Spring, MD 20910-3282, attn. CAREER 04.

Information Contacts(s): Technical Information. John Wickham, Susan Banahan, CAREER 2004 Program Manager, NCCOS/CSCOR/COP, 301-713-3338/ext 156 (148), Internet: John.Wickham@noaa.gov; Susan.Banahan@noaa.gov.

Business Management Information. Leslie McDonald, NCCOS/CSCOR/COP Grants Administrator, 301-713-3338/ext 155, internet: Leslie.McDonald@noaa.gov.

Eligibility: Eligible applicants are institutions of higher education, other non-profits, state, local, Indian Tribal Governments, and Federal agencies that possess the statutory authority to receive financial assistance. (a) Researchers must be employees of an eligible institution listed above; and proposals must be submitted through that institution. Non-Federal researchers should comply with their institutional requirements for proposal submission. (b) Non-NOAA Federal applicants will be required to submit certifications or documentation showing that they have specific legal authority to receive funds from the Department of Commerce (DOC) for this research. (c) NCCOS/CSCOR/COP will accept proposals that include foreign researchers as collaborators with a researcher, who has met the above stated eligibility requirements; and who also is an employee of an eligible institution listed above. (d) Non-Federal researchers affiliated with NOAA-University Joint Institutes should comply with joint institutional requirements; they will be funded through grants either to their institutions or to joint institutes.

Cost Sharing Requirements: None.

Intergovernmental Review: Applications under this program are not subject to Executive Order 12372, “Intergovernmental Review of Federal Programs.”

2. State and Territory Coral Reef Management

Summary Description: This program is soliciting proposals to support comprehensive projects for the conservation and management of coral reefs and associated fisheries in the jurisdictions of Puerto Rico, the U.S. Virgin Islands, Florida, Hawaii, Guam, the Commonwealth of the Northern Mariana Islands and American Samoa. This program is part of the Coral Reef Conservation Act of 2000 which provides matching grants of financial assistance for coral reef conservation projects. Funding will also support jurisdictional participation in national coral reef planning activities, such as U.S. Coral Reef Task Force meetings. NOS will accept preapplications for peer review. Selected applicants may be asked to revise award objectives, work plans or budgets prior to submittal of a final application, including required Federal financial assistance forms, to NOS.

Funding Availability: Approximately $2,100,000 will be available in FY 2004 to support awards under this program. Each eligible jurisdiction can apply for a maximum of $400,000. Funding is subject to the availability of federal appropriations.

Statutory Authority: 16 U.S.C. 6403.

CFDA: 11.419, Coastal Zone Management Program.

Preapplication/Application Deadline: Preapplications are due to NOAA before midnight, EST, on March 12, 2004. Final applications are due to NOAA before midnight, EDT on June 4, 2004.

Address for submitting Proposals: David Kennedy, NOAA Coral Reef Conservation Program, Office of Response and Restoration, N/ORR, Room 10102, NOAA National Ocean Service, 1305 East West Highway, Silver Spring, MD 20910.

Information Contact(s): Bill Millhouser, 1305 East West Highway, 11th Floor, N/ORM3, Silver Spring, MD 20910, phone 301-713-3155 extension 189, e-mail at bill.millhouser@noaa.gov.

Eligibility: Eligible applicants are the governor-appointed point of contact agencies for coral reef activities in each of the jurisdictions of American Samoa, Florida, the Commonwealth of the Northern Mariana Islands, Guam, Hawaii, Puerto Rico, and U.S. Virgin Islands.

Cost Sharing Requirements: Any coral conservation project funded under this program requires a 1:1 match. Matching funds must be from non-Federal sources and can include in-kind contributions and other non-cash support. The NOAA Administrator may waive all or part of the matching requirement if the Administrator determines that the project meets the following two requirements: (1) No reasonable means are available through which an applicant can meet the matching requirement, and (2) The probable benefit of such project outweighs the public interest in such matching requirement. The Program shall waive any requirement for local matching funds for any project under $200,000 (including in-kind contribution) to the governments of Insular Areas, defined as the jurisdictions of the U.S. Virgin Islands, Guam, American Samoa, and the Commonwealth of the Northern Mariana Islands.

Intergovernmental Review: Applications under this program are not subject to Executive Order 12372, “Intergovernmental Review of Federal Programs.”

3. State and Territory Coral Reef Ecosystem Monitoring

Summary Description: National Ocean Service, National Centers for Coastal and Ocean Science (NCCOS) funds support a nationally coordinated, comprehensive, long term monitoring program to assess the condition of U.S. coral reef ecosystems and evaluate the efficacy of coral reef ecosystem management. This program is part of the Coral Reef Conservation Act of 2000 which provides matching grants of financial assistance for coral reef conservation projects. NOS will accept preapplications for peer review. Selected applicants may be asked to revise award objectives, work plans or budgets prior to submittal of a final application, including required Federal financial assistance forms, to NOS.

Funding Availability: NCCOS will provide approximately $840,000 in funding for FY 04 to support coral reef monitoring activities under this program. FY 2004 awards to Puerto Rico, Florida, U.S. Virgin Islands, Hawaii, American Samoa, Guam, and the Commonwealth of the Northern Mariana Islands are expected to range from $50,000 to $250,000. FY 2004 awards to the Federated States of Micronesia, Republic of Palau, and the Republic of the Marshall Islands are expected to range from $10,000 to $20,000 per year. Funding will be subject to the availability of federal appropriations.

Statutory Authority: 16 U.S.C. 6403.

CFDA: 11.426, Financial Assistance for National Centers for Coastal Ocean Science.

Preapplication/Application Deadline: Preapplications are due to NOAA before midnight, EDT, on March 12, 2004. Final applications are due to NOAA before midnight, EDT on June 4, 2004.

Address for submitting Proposals: David Kennedy, NOAA Coral Reef Conservation Program, Office of Response and Restoration, N/ORR, Room 10102, NOAA National Ocean Service, 1305 East West Highway, Silver Spring, MD 20910.

Information Contact(s): John Christensen, 1305 East West Highway, 9th Floor, N/SCI1, Silver Spring, MD 20910, phone 301-713-3028 extension153, e-mail at john.christensen@noaa.gov.

Eligibility: Eligible applicants are limited to the natural resource management agency in each U.S. State, Territory, or Freely Associated State, with jurisdiction over coral reefs, as designated by the respective governors or other applicable senior jurisdictional official. NOAA is requesting proposals from Puerto Rico, Florida, U.S. Virgin Islands, Hawaii, American Samoa, Guam, the Commonwealth of the Northern Mariana Islands, the Federated States of Micronesia, Republic of Palau, and Republic of the Marshall Islands.

Cost Sharing Requirements: Any coral conservation project funded under this program requires a 1:1 match. Matching funds must be from non-Federal sources and can include in-kind contributions and other non-cash support. The NOAA Administrator may waive all or part of the matching requirement if the Administrator determines that the project meets the following two requirements: (1) No reasonable means are available through which an applicant can meet the matching requirement, and (2) The probable benefit of such project outweighs the public interest in such matching requirement. The Program shall waive any requirement for local matching funds for any project under $200,000 (including in-kind contribution) to the governments of Insular Areas, defined as the jurisdictions of the U.S. Virgin Islands, Guam, American Samoa, and the Commonwealth of the Northern Mariana Islands.

Intergovernmental Review: Applications under this program are not subject to Executive Order 12372, “Intergovernmental Review of Federal Programs.”

4. International Coral Reef Conservation

Summary Description: This program supports four project categories; promoting of watershed management in the Wider Caribbean small island communities excluding the Mesoamerican coral reef corridor, enhancing management effectiveness of Marine Protected Areas, encouraging regional approaches to further no-take marine reserves in the Wider Caribbean and Southeast Asia, and promoting socio-economic monitoring in coral reef management. This program is part of the Coral Reef Conservation Act of 2000 which provides matching grants of financial assistance for coral reef conservation projects. NOS will accept preapplications for peer review. Selected applicants may be asked to revise award objectives, work plans or budgets prior to submittal of a final application, including required Federal financial assistance forms, to NOS.

Funding Availability: Approximately $400,000 will be available in FY 2004 to support grants and cooperative agreements under this program. Approximately $75,000-$100,000 will be allocated to each of the four project categories listed below, with the following award ranges: a. Watershed Management: up to $75,000, b. Management Effectiveness: (1) single site projects: $20,000-$40,000, (2) Regional capacity building projects: $100,000 c. Marine Reserves: $25,000-$40,000, d. Socio-economic monitoring: $15,000-$25,000. Funding will be subject to the availability of federal appropriations.

Statutory Authority: 16 U.S.C. 6403.

CFDA: 11.463 Habitat Conservation.

Preapplication/Application Deadline: Preapplications are due to NOAA before midnight, EDT, on March 12, 2004. Final applications are due to NOAA before midnight, EDT on June 4, 2004.

Address for submitting Proposals: David Kennedy, NOAA Coral Reef Conservation Program, Office of Response and Restoration, N/ORR, Room 10102, NOAA National Ocean Service, 1305 East West Highway, Silver Spring, MD 20910.

Information Contact(s): Arthur Paterson, 1315 East West Highway, 5th Floor, Room 5627, Silver Spring, MD 20910, phone 301-713-3078 extension 217, e-mail at Authur.E.Paterson@noaa.gov.

Eligibility: Eligible applicants include all international, governmental, and non-governmental organizations, including the Federated States of Micronesia, Republic of Palau, and the Republic of the Marshall Islands. Eligibility is also contingent upon whether activities undertaken with respect the application would be consistent with applicable conditions or restrictions imposed by the U.S. government.

Cost Sharing Requirements: Any coral conservation project funded under this program requires a 1:1 match. Matching funds must be from non-Federal sources and can include in-kind contributions and other non-cash support. The NOAA Administrator may waive all or part of the matching requirement if the Administrator determines that the project meets the following two requirements: (1) No reasonable means are available through which an applicant can meet the matching requirement, and (2) The probable benefit of such project outweighs the public interest in such matching requirement. The Program shall waive any requirement for local matching funds for any project under $200,000 (including in-kind contribution) to the governments of Insular Areas, defined as the jurisdictions of the U.S. Virgin Islands, Guam, American Samoa, and the Commonwealth of the Northern Mariana Islands.

Intergovernmental Review: Applications under this program are not subject to Executive Order 12372, “Intergovernmental Review of Federal Programs.”

5. FY2004 Coastal Services Center Broad Area Announcement

Summary Description: NOS is soliciting projects for the Coastal Services Center (CSC) Director's Office (DO) program, with an anticipated start date of May 1, 2004. The DO program is seeking proposals for grant projects that enhance the organization, implementation, and application of regional coastal ocean observing systems. Coastal observing systems are meant to include the sensors, personnel, and data management that obtain, process and apply regular and sustained in-situ and/or remote observations of the physical, chemical, and biological environment of Great Lakes, estuaries, and the near shore ocean of the United States. Of particular interest is the utility of such systems for management of coastal and ocean resources and for the benefit of coastal communities. Two types of projects to benefit the development of regional coastal ocean observing systems are requested: (1) projects that facilitate building partnerships and regional organizational structures for Regional Observing System Coordination, and (2) projects that will support implementation of Regional Coastal Ocean Observation Pilot Projects.

Funding Availability: Estimated available funding for both types of projects is expected to be between $1,000,000 to $15,000,000 depending on congressional appropriation. For the Regional Observation System Coordination, funding is expected to be between $200,000 to $500,000 with two to five grants being awarded ranging from $20,000 to $100,000. For the Regional Coastal Ocean Observation Pilot Projects, funding is expected to be between $500,000 to $14,000,000 with two to ten grants being awarded ranging from $100,000 to $3,000,000. Applications must clearly state which type of project is targeted.

Statutory Authority: 16 U.S.C. 1456c and 33 U.S.C. 1442.

CFDA: 11.473, Coastal Services Center.

Application Deadline: Applicants applying for federal assistance under the DO program, must submit their applications by 5:00 p.m. EST, October 31, 2003.

Address for submitting Proposals: Coastal Services Center, 2234 South Hobson Avenue, Charleston, South Carolina 29405-2413 to the attention of Geno Olmi, room 234A.

Information Contact(s): For administrative questions, contact Violet Legette, NOAA CSC; 2234 South Hobson Avenue, Room 218; Charleston, South Carolina 29405-2413, or by phone at 843-740-1222, or by fax 843-740-1232, or via internet at Violet.Legette@noaa.gov. For technical questions, contact Geno Olmi, NOAA CSC; 2234 South Hobson Avenue, Room 234A, Charleston, South Carolina 29405-2413, or by phone at 843-740-1230, or by fax 843-740-1297, or via internet at Geno.Olmi@noaa.gov.

Eligibility: Eligible applicants are institutions of higher education, non-profit and for-profit organizations, foreign governments, organizations under the jurisdiction of foreign governments, international organizations, and state, local and Indian tribal governments. Federal agencies or institutions are not eligible to receive Federal assistance under this announcement, but may be project partners.

Cost Sharing Requirements: None.

Intergovernmental Review: Applications under this program are subject to Executive Order 12372, “Intergovernmental Review of Federal Programs.”

6. FY2004 Coastal Services Center Broad Area Announcement

Summary Description: NOS is soliciting projects for the Coastal Services Center (CSC) Geographic Information System (GIS) Integration and Development (I&D) program, with an anticipated start date of March 1, 2004. THE GIS I&D program seeks proposals for a one to two year cooperative agreements under which cooperators and the Center will jointly develop technical projects related to the goal of the GIS I&D program, which is to provide relevant, easily accessible spatial data, tools, and support services to the coastal resource management community. A priority of the GIS I&D program is to fund a state and local level coastal resource management organizations proposing geospatial solutions to issues related to coastal hazards, smart growth, marine protected areas, permitting systems, data access and distribution, or Internet mapping.

Funding Availability: Funding is estimated to be $200,000. Typically the GIS I&D program funds two to three projects with awards ranging from about $50,000 to $100,000.

Statutory Authority: 33 U.S.C. 883a; 33 U.S.C. 883c; and 16 U.S.C. 1456c.

CFDA: 11.473, Coastal Services Center.

Application Deadline: Applicants applying for federal assistance under the GIS I&D program, must submit their applications by 5:00 p.m. EDT, October 6, 2003.

Address for submitting Proposals: Coastal Services Center, 2234 South Hobson Avenue, Charleston, South Carolina 29405-2413 to the attention of James Lewis Free, room 213.

Information Contact(s): For administrative questions, contact Violet Legette, NOAA CSC; 2234 South Hobson Avenue, Room 218; Charleston, South Carolina 29405-2413, or by phone at 843-740-1222, or by fax 843-740-1232, or via internet at Violet.Legette@noaa.gov. For technical questions, contact Hamilton Smillie, NOAA CSC; 2234 South Hobson Avenue, Room 153; Charleston, South Carolina 29405-2413, or by phone at 843-740-1192, or by fax 843-740-1315, or via internet at Hamilton.Smillie@noaa.gov.

Eligibility: Eligible applicants are institutions of higher education, hospitals, other non-profits, commercial organizations, foreign government, organizations under the jurisdiction of foreign governments, international organizations, and state, local and Indian tribal governments. Federal agencies or institutions are not eligible to receive Federal assistance under this announcement, but may be project partners.

Cost Sharing Requirements: None.

Intergovernmental Review: Applications under this program are subject to Executive Order 12372, “Intergovernmental Review of Federal Programs.”

7. FY2004 Coastal Services Center Broad Area Announcement

Summary Description: NOS is soliciting projects for the Coastal Services Center (CSC) Information Resources (IR) program with an anticipated start date of March 1, 2004. The IR program is seeking proposals for a one year grant to make coastal data, products, and publications of importance to U.S. coastal resource managers available on-line using standard documentation formats and information retrieval protocols. Allowable documentation formats are the Federal Geographic Data Committee's (FGDC) content standard for geospatial data, commonly referred to as the FGDC metadata standard, and the Machine Readable Cataloging (MARC) 21 format.

Funding Availability: Funding is expected to be $200,000 for a one year grant period. It is anticipated that multiple grant proposals will be funded under this announcement ranging from $25,000 to $100,000.

Statutory Authority: 16 U.S.C. 1456c.

CFDA: 11.473, Coastal Services Center.

Application Deadline: Applicants applying for federal assistance under the IR program, must submit their applications by 5:00 p.m. EDT, October 6, 2003.

Address for submitting Proposals: Coastal Services Center, 2234 South Hobson Avenue, Charleston, South Carolina 29405-2413 to the attention of Anne Ball, room 211.

Information Contact(s): For administrative questions contact Violet Legette, NOAA CSC; 2234 South Hobson Avenue, Room 218; Charleston, South Carolina 29405-2413, or by phone at 843-740-1222, or by fax 843-740-1232, or via internet at Violet.Legette@noaa.gov. For technical questions, contact Hamilton Smillie, NOAA CSC; 2234 South Hobson Avenue, Room 153; Charleston, South Carolina 29405-2413, or by phone at 843-740-1192, or by fax 843-740-1315, or via internet at Hamilton.Smillie@noaa.gov.

Eligibility: Eligible applicants are institutions of higher education, hospitals, other non-profits, commercial organizations, foreign governments, organizations under the jurisdiction of foreign governments, international organizations, and state, local and Indian Tribal governments. Federal agencies or institutions are not eligible to receive Federal assistance under this announcement, but may be project partners.

Cost Sharing Requirements: None.

Intergovernmental Review: Applications under this program are subject to Executive Order 12372, “Intergovernmental Review of Federal Programs.”

8. FY2004 Coastal Services Center Broad Area Announcement

Summary Description: NOS is soliciting projects for the Coastal Services Center (CSC) Landscape Characterization and Restoration (LCR) program, with an anticipated start date of March 1, 2004. Proposals are being requested where the Center will enter into a two year cooperative agreement which the cooperator and the Center will jointly develop an environmental characterization of a coastal estuary, watershed, or special management area in the Northeastern United States located entirely or in part within Maine, New Hampshire, Massachusetts, Rhode Island, Connecticut, New York, New Jersey, Pennsylvania, Delaware, Maryland, Virginia, or North Carolina.

Funding Availability: Total anticipated funding for a two year project is estimated to be $300,000 and no more than one award is expected.

Statutory Authority: 16 U.S.C. 1456c and 33 U.S.C. 1442.

CFDA: 11.473, Coastal Services Center.

Application Deadline: Applicants applying for federal assistance under the LCR program, must submit their applications by 5:00 p.m. EDT, October 6, 2003.

Address for submitting Proposals: Coastal Services Center, 2234 South Hobson Avenue, Charleston, South Carolina 29405-2413 to the attention of Linda Rowe, room 236B.

Information Contact(s): For administrative questions, contact Violet Legette, NOAA CSC; 2234 South Hobson Avenue, Room 218; Charleston, South Carolina 29405-2413, or by phone at 843-740-1222, or by fax 843-740-1232, or via internet at Violet.Legette@noaa.gov. For technical questions, contact Linda Rowe, NOAA CSC; 2234 South Hobson Avenue, Room 236B; Charleston, South Carolina 29405-2413, or by phone at 843-740-1283, or by fax 843-740-1315, or via internet at Linda.Rowe@noaa.gov.

Eligibility: Eligible applicants are institutions of higher education, hospitals, other non-profits, commercial organizations, foreign governments, organizations under the jurisdiction of foreign governments, international organizations, and state, local and Indian tribal governments. Federal agencies or institutions are not eligible to receive Federal assistance under this announcement, but may be project partners.

Cost Sharing Requirements: None.

Intergovernmental Review: Applications under this program are subject to Executive Order 12372, “Intergovernmental Review of Federal Programs.”

9. Ecological Forecasting (EcoFore)

Summary Description: The purpose of this document is to advise the public that NCCOS/CSCOR/COP is soliciting proposals for ecological forecasting. It is anticipated that projects funded under this announcement will have a May 1, 2004, start date. NCCOS/CSCOR/COP is soliciting research proposals for projects of 2 to 5 years in duration for the development of ecological forecasting capability and the transition/operationalism of ecological forecasts. Funding is contingent upon the availability of Fiscal Year 2004 Federal appropriations. It is anticipated that final recommendations for funding under this announcement will be made in early Calendar Year 2004.

Statutory Authority: 16 U.S.C. 1456c.

CFDA: 11.478 Center for Sponsored Coastal Ocean Research: Coastal Ocean Program.

Application Deadline: The deadline for receipt of proposals at the COP office is 3:00 p.m., local time, November 4, 2003. (Note that late-arriving applications provided to a delivery service on or before November 4, 2003, with delivery guaranteed before 3:00 p.m., local time on November 4, 2003, will be accepted for review if the applicant can document that the application was provided to the delivery service with delivery to the address listed below guaranteed by the specified closing date and time; and, in any event, the proposals are received in the NCCOS/CSCOR/COP office by 3:00 p.m., local time, no later than 2 business days following the closing date.)

Addresses for submitting Proposals: Attn. EcoFore 04, Center for Sponsored Coastal Ocean Research/Coastal Ocean Program (N/SCI2), National Oceanic and Atmospheric Administration, 1305 East-West Highway, SSMC4, 8th Floor Station 8243, Silver Spring, MD 20910.

Information Contacts(s): Technical Information. Beth Turner, ECOFORE 2004 Program Manager, NCCOS/CSCOR/COP, 603-862-4680, Internet: elizabeth.turner@noaa.gov

Business Management Information. Leslie McDonald, NCCOS/CSCOR/COP Grants Administrator, 301-713-3338/ext 155, Internet: Leslie.McDonald@noaa.gov

Eligibility: Eligible applicants are institutions of higher education, other non-profits, state, local, Indian Tribal Governments, and Federal agencies that possess the statutory authority to receive financial assistance. (a) Researchers must be employees of an eligible institution listed above; and proposals must be submitted through that institution. Non-Federal researchers should comply with their institutional requirements for proposal submission. (b) Non-NOAA Federal applicants will be required to submit certifications or documentation showing that they have specific legal authority to receive funds from the Department of Commerce (DOC) for this research. (c) NCCOS/CSCOR/COP will accept proposals that include foreign researchers as collaborators with a researcher, who has met the above stated eligibility requirements; and who also is an employee of an eligible institution listed above. (d) Non-Federal researchers affiliated with NOAA-University Joint Institutes should comply with joint institutional requirements; they will be funded through grants either to their institutions or to joint institutes.

Cost Sharing Requirements: None.

Intergovernmental Review: Applications under this program are not subject to Executive Order 12372, “Intergovernmental Review of Federal Programs.”

10. National Estuarine Research Reserves System FY2004 Land Acquisition and Construction Program

Summary Description: The Estuarine Reserves Division (ERD) of NOAA is soliciting proposals from the National Estuarine Research Reserve System (NERRS) for land acquisition and construction funding. The National Estuarine Research Reserve System consists of estuarine areas of the United States and its territories which are designated and managed for research and educational purposes. Through the funding of designated reserve agencies and universities to undertake land acquisition and construction projects that support the NERRS purpose, NOAA will strengthen protection of key land and water areas and enhance long-term protection of the area for research and education and for facility and exhibit construction. The ERD of NOAA announces the availability of funding for the NERRS land acquisition and/or construction. The ERD anticipates that approximately $10.0 million, pending availability of funds, will be competitively awarded to qualified National Estuarine Research Reserves that meet the funding priorities and selection criteria.

Funding Availability: Approximately $10.0 million will be available to designated reserve agencies or universities only through this announcement for fiscal year 2004.

Statutory Authority: 16 U.S.C. 1461 (e)(1)(A)(i),(ii), and (iii).

CFDA: 11.420, Coastal Zone Management Estuarine Research Reserves.

Application Deadline: Proposals must be received by or postmarked by February 13, 2004.

Address for submitting Proposals: NOAA/N0S; 1305 East-West Highway, Room 10509; Silver Spring, Maryland 20910.

Information Contact(s): Doris Grimm, NOAA/NOS; 1355 East-West Highway, Room 10509; Silver Spring, Maryland 20910, or by phone at 301-713-3155 ext. 107, or fax to 301-713-4363, internet at doris.grimm@noaa.gov.

Eligibility: Eligible applicants are coastal states in which the NERRs are located and are directed to the Reserves' lead state agencies or universities.

Cost Sharing Requirements: Matching requirements include 50 percent match of the total grant project for land acquisition and 30 percent match of the total grant project for construction.

Intergovernmental Review: Applications under this program are subject to Executive Order 12372, “Intergovernmental Review of Federal Programs.”

11. FY2004 Coastal Services Center Broad Area Announcement

Summary Description: NOS is soliciting projects for the Coastal Services Center (CSC) Coastal Remote Sensing (CRS) program, with an anticipated start date of April 1, 2004. CRS is seeking proposals on applications of remotely sensed coastal spatial data to support coastal resource management decision-making and to help resolve coastal issues. The Center's goal is to aid coastal resource managers while promoting the use of remote sensing technologies and innovations. The Center seeks proposals for a two year cooperative agreement under which the Center will acquire commercial remote sensing imagery and/or products to the identified issue. The cooperator must show how their management issue will benefit substantially by the inclusion of remotely sensed data.

Funding Availability: Total anticipated funding is $75,000 over two years. Between one and three awards are anticipated with each award being funded at $25,000 over a two year period. Statutory Authority: 16 U.S.C. 1456c.

CFDA: 11.473, Coastal Services Center.

Application Deadline: Applicants applying for federal assistance under the CRS program, must submit their applications by 5:00 p.m. EDT, October 6, 2003.

Address for submitting Proposals: Coastal Services Center, 2234 South Hobson Avenue, Charleston, South Carolina 29405-2413 to the attention of Kirk Waters, room 236B.

Information Contact(s): For administrative questions, contact Violet Legette, NOAA CSC; 2234 South Hobson Avenue, Room 218; Charleston, South Carolina 29405-2413, or by phone at 843-740-1222, or by fax 843-740-1232, or via internet at Violet.Legette@noaa.gov. For technical questions, contact Kirk Waters, NOAA CSC; 2234 South Hobson Avenue, Room 103; Charleston, South Carolina 29405-2413, or by phone at 843-740-1227, or by fax 843-740-1289, or via internet at Kirk.Waters@noaa.gov.

Eligibility: Eligible applicants are state, local and Indian tribal governments, institutions of higher education, and other non-profits. Federal agencies or institutions are not eligible to receive Federal assistance under this announcement, but may be project partners.

Cost Sharing Requirements: None.

Intergovernmental Review: Applications under this program are subject to Executive Order 12372, “Intergovernmental Review of Federal Programs.”

National Weather Service (NWS)

1. CSTAR 2004 Collaborative Science, Technology, and Applied Research (CSTAR) Program

Summary Description: NWS is soliciting projects to be conducted by university investigators for a 1-year, 2-year, or 3-year period, with an anticipated start date of April 1, 2004. The CSTAR Program represents an NOAA/NWS effort to create a cost-effective transition from basic and applied research to operations and services through collaborative research between operational forecasters and academic institutions which have expertise in the environmental sciences. These activities will engage researchers and students in applied research of interest to the operational meteorological community and will improve the accuracy of forecasts and warnings of environmental hazards by applying scientific knowledge and information to NWS products and services. The NOAA CSTAR Program is a contributing element of the U.S. Weather Research Program. NOAA's program is designed to complement other agency contributions to that national effort.

Funding Availability: Approximately $500,000 will be available through this announcement for fiscal year 2004. Proposals should be prepared assuming an annual budget of no more than $125,000. It is expected that approximately four awards will be made, depending on availability of funds.

Statutory Authority: 15 U.S.C. 313; 49 U.S.C. 44720(b); 33 U.S.C. 883d; 15 U.S.C 2904; 15 U.S.C. 2934.

CFDA: 11.468, Applied Meteorological Research.

Application Deadline: Proposals must be received by the NWS no later than 5:00 p.m., EDT, October 23, 2003.

Address for submitting Proposals: NOAA/NWS; 1325 East-West Highway, Room 15330; Silver Spring, Maryland 20910-3283.

Information Contact(s): Sam Contorno, NOAA/NWS; 1325 East-West Highway, Room 15330; Silver Spring, Maryland 20910-3283, or by phone at 301-713-3557 ext. 150, or fax to 301-713-1253, or via internet at samuel.contorno@noaa.gov.

Eligibility: Eligible applicants are institutions of higher education and federally funded educational institutions such as the Naval Postgraduate School.

Cost Sharing Requirements: None.

Intergovernmental Review: Applications under this program are not subject to Executive Order 12372, “Intergovernmental Review of Federal Programs.”

2. Hydrologic Research

Summary Description: This program announcement is for projects to be conducted by research investigators for a 1-year, 2-year, or 3-year period. June 1, 2004, should be used as the proposed start date on proposals. This program represents an NOAA/NWS effort to create a cost-effective continuum of basic and applied research through collaborative research between the Hydrology Laboratory of the NWS Office of Hydrologic Development and academic communities or other private or public agencies which have expertise in the hydrometerologic, hydrologic, and hydraulic routing sciences. These activities will engage researchers and students in basic and applied research to improve the scientific understanding of river forecasting. Ultimately these efforts will improve the accuracy of forecasts and warnings of rivers and flash floods by applying scientific knowledge and information to NWS research methods and techniques, resulting in a benefit to the public. NOAA's program is designed to complement other agency contributions to that national effort.

Funding Availability: Proposals should be prepared assuming an annual budget of no more than $125,000. It is expected that approximately four to eight awards will be made, depending on availability of funds.

Statutory Authority: 15 U.S.C. 313.

CFDA: 11.462, Hydrologic Research.

Application Deadline: Proposals are due no later 5 pm, EST, on December 19, 2003.

Address for submitting Proposals: Proposals must be submitted to NOAA/NWS; 1325 East-West Highway, Room 8348; Silver Spring, Maryland 20910-3283.

Information Contact(s): Dr. George Smith by phone at 301-713-0640 ext. 117, or fax to 301-713-0963, or via internet at George.Smith@noaa.gov.

Eligibility: Eligible applicants are Federal agencies, institutions of higher education, other nonprofits, commercial organizations, foreign governments, organizations under the jurisdiction of foreign governments, and international organizations, state, local and Indian tribal governments.

Cost Sharing Requirements: None.

Intergovernmental Review: Applications under this program are not subject to Executive Order 12372, “Intergovernmental Review of Federal Programs.”

Ocean and Atmospheric Research (OAR)

1. THORPEX: A Global Atmospheric Research Program

Summary Description: The Office of Oceanic and Atmospheric Research (OAR), National Oceanic and Atmospheric Administration (NOAA), is soliciting preapplications (PA) and full proposals under the United States Weather Research Program (USWRP) for THORPEX: A Global Atmospheric Research Program. THORPEX is a major long-term international program aimed at improving the accuracy and utility of operational global numerical weather predictions (NWP) on time scales out to two weeks through international collaboration between the operational and research communities. Applicants are encouraged to submit preapplications describing the proposed work and its relevance to targeted priority project areas. The purpose of the preapplication process is to provide information to potential applicants on the relevance of their proposed project to THORPEX and the likelihood of it being funded in advance of preparing a full proposal.

Funding Availability: The estimate for total funding that will be available in FY 2004 will not exceed $1,500,000, but this amount is expected to increase substantially in future years. Funding of any THORPEX proposals is contingent upon availability of these funds. It is anticipated that 10-15 awards will be made. Although there are no restrictions on amount, it is likely the awards will range from $25,000 to $200,000.

Statutory Authority: 49 U.S.C. 44720(b), 33 U.S.C. 883d.

CFDA: 11.431, Climate and Atmospheric Research.

Preapplication/Application Deadline: Preapplications must be received no later than 5:00 p.m., EDT, on July 30, 2003. Response letters will be sent from NOAA no later than August 14, 2003. Full proposals must be received no later than 5:00 p.m., EDT, on September 15, 2003.

Addresses for submitting Preapplications and Proposals: Preapplications and full proposals may be sent as printed hard copy to: John Gaynor, Director, Interagency Program Office of the U.S. Weather Research, Room 11116, SSMC 3, 1315 East West Highway, Silver Spring, MD, 20910; or they may be submitted electronically by sending in portable document format (PDF) via e-mail to John.Gaynor@noaa.gov with a copy to Zoltan.Toth@noaa.gov.

Information Contact(s): Karen King, DOC/NOAA, Office of Weather & Air Quality Research, Routing Code R/WA, 1315 East-West Highway, Room 11216, Silver Spring, MD 20910, phone (301) 713-0460 ext. 202, email Karen.King@noaa.gov.

Eligibility: Eligible applicants are institutions of higher education, other non-profits, commercial organizations, international organizations, state, local and Indian tribal governments, and Federal agencies.

Cost Sharing Requirements: None.

Intergovernmental Review: Applications under this program are not subject to Executive Order 12372, “Intergovernmental Review of Federal Programs.”

Proposal Review and Selection Process for Internships, Fellowships, and Scholarships

Some programs may include a pre-application process which provides an initial review and feedback to the applicants that have responded to a call for “letters of intent” or “pre-proposals''; however not all programs will include such a process. If a pre-application process is used by a program, it shall be described in the Summary Description and the deadline shall be provided in the Application Deadline section. An initial administrative review of applications is conducted to determine compliance with requirements and completeness of applications. A panel review is conducted to individually evaluate, score, and rank applications using the evaluation criteria. A second panel review may be conducted on the applicants that meet the program's threshold (based on scores from the first panel review) to make selections using the selection factors provided below. The Program Officer may conduct a review of the rank order and make recommendations to the Selecting Official based on the panel ratings and the selection factors listed below. The Selecting Official considers panel reviews and recommendations. The Selecting Official will award in rank order unless the proposal is justified to be selected out of rank order based upon one or more of the selection factors noted below. The Selecting Official makes final recommendations for award to the Grants Officer who is authorized to obligate the funds.

Evaluation Criteria for Fellowship/Scholarships/Internships

1. Academic record and statement of career goals and objectives of student

2. Quality of project and applicability to program priorities.

3. Recommendations and/or endorsements of student

4. Additional relevant experience related to diversity of education; extra-curricular activities; honors and awards; interpersonal, written, and oral communications skills

5. Financial need of student

Selection Factors for Fellowship/Scholarships/Internships

1. Balance/Distribution of funds:

a. Across academic disciplines

b. By types of institutions

c. Geographically

2. Availability of funds

3. Program-specific objectives

4. Degree in scientific area and type of degree sought

NOAA Fellowship/Scholarships/Internships Competitions

This omnibus notice describes funding opportunities for the following NOAA discretionary fellowship, scholarship, internship programs:

National Ocean Service (NOS)

1. National Estuarine Research Reserve (NERR) Graduate Research Fellowship Program (GRF)

Summary Description: The Estuarine Reserves Division of NOAA is soliciting applications for graduate fellowship funding within the National Estuarine Research Reserve System. The Estuarine Reserves Division anticipates that 31 Graduate Research Fellowships will be competitively awarded to qualified graduate students whose research occurs within the boundaries of at least one reserve. The National Estuarine Research Reserve Graduate Research Fellowship program is designed to fund high quality research focused on enhancing coastal zone management while providing students with an opportunity to contribute to the research or monitoring program at a particular reserve site. Students are required to work with the research coordinator or reserve manager to develop a plan to participate in the research or monitoring program for up to 15 hours per week. These management-related research projects will enhance scientific understanding of the Reserve ecosystem, provide information needed by Reserve management and coastal management decision-makers, and improve public awareness and understanding of estuarine ecosystems and estuarine management issues. Research projects must address one of the following scientific areas of support: non-point source pollution, biodiversity, invasive species, habitat restoration, sustaining resources in estuarine ecosystems, and socioeconomic research applicable to estuarine ecosystem management.

Funding Availability: The amount of the fellowship is anticipated to be $20,000; at least 30% of total project cost match is required by the applicant (i.e. $8,572 match for $20,000 in federal funds for a total project cost of $28,572). Applicants may apply for one to three years of funding.

Statutory Authority: 16 U.S.C. 1461 (e)(1)(B) .

CFDA: 11.420 Coastal Zone Management.

Application Deadline: All applications must be postmarked by November 1, 2003.

Address for submitting Proposals: NOAA's Estuarine Reserves Division; 1305 East-West Highway; SSMC4, Station 10500, N/ORM5; Silver Spring, MD 20912.

Information Contact: Erica Seiden, NOAA's Estuarine Reserves Division; 1305 East-West Highway; SSMC4, Station 10500, N/ORM5; Silver Spring, MD 20912, or by phone at 301-713-3155 extension 172, or fax to 301-713-4363, internet at erica.seiden@noaa.gov or http://www.ocrm.nos.noaa.gov/grf/welcome.html.

Eligibility: Institutions eligible to receive awards include institutions of higher education, other non-profits, commercial organizations, international organizations, state, local and Indian tribal governments. Minority students are encouraged to apply to eligible institutions.

Cost Sharing Requirements: Requested federal funds must be matched by at least 30 percent of the TOTAL cost of the project, not a portion of only the federal share, (e.g. $8,572 match for $20,000 in federal funds for a total project cost of $28,572).

Intergovernmental Review: Applications under this program are not subject to Executive Order 12372, “Intergovernmental Review of Federal Programs.”

2. Dr. Nancy Foster Scholarship Program; Financial Assistance for Graduate Students

Summary Description: The National Oceanic and Atmospheric Administration (NOAA) is announcing funding availability for graduate students pursuing masters or doctoral level degrees in oceanography, marine biology, or maritime archaeology through the Dr. Nancy Foster Scholarship Program and is inviting applications for such scholarships. The intent of this program is to recognize outstanding scholarship and encourage independent graduate level research in the above mentioned fields.

Funding Availability: Approximately $330,000.

Statutory Authority: 16 U.S.C. 1445c-1; National Marine Sanctuaries Preservation Act of 1996, Public Law 104-283; National Marine Sanctuaries Amendments Act of 2000, Public Law 106-513.

CFDA: 11.429 National Marine Sanctuary Program.

Application Deadline: Applications must be received between January 28, 2004 and March 31, 2004 no later than 5:00 p.m., EST.

Address for submitting Proposals: Applications should be sent to the Dr. Nancy Foster Scholarship Program, Attention: Office of the Assistant Administrator, 13th Floor, National Ocean Service, 1305 East-West Highway, Silver Spring, MD 20910.

Information Contact(s): Send your request for information to the Program Manager at the address shown above in “Addresses”, by telephone (301) 713-3074, or by internet to http://fosterscholars.noaa.gov.

Eligibility: Only United States citizens currently pursuing or accepted to pursue a masters or doctoral level degree in oceanography, marine biology, or maritime archaeology, including the curation, preservation, and display of maritime artifacts, are eligible for an award under this scholarship program.

Cost Sharing Requirements: None.

Intergovernmental Review: Applications under this program are not subject to Executive Order 12372, “Intergovernmental Review of Federal Programs.”

Limitation of Liability

Funding for programs listed in this notice is contingent upon the availability of Fiscal Year 2004 appropriations. Applicants are hereby given notice that funds have not yet been appropriated for the programs listed in this notice. In no event will NOAA or the Department of Commerce be responsible for proposal preparation costs if these programs fail to receive funding or are cancelled because of other agency priorities. Publication of this announcement does not oblige NOAA to award any specific project or to obligate any available funds.

Universal Identifier

Applicants should be aware that, for programs which have deadline dates on or after October 1, 2003, they may be required to provide a Dun and Bradstreet Data Universal Numbering System (DUNS) number during the application process. See the October 30, 2002 (67 FR 66177) and April 8, 2003 (68 FR 17090) Federal Register notices for additional information. Organizations can receive a DUNS number at no cost by calling the dedicated toll-free DUNS Number request line at 1-866-705-5711 or via the internet (http://www.dunandbradstreet.com).

The Department of Commerce Pre-Award Notification Requirements for Grants and Cooperative Agreements

The Department of Commerce Pre-Award Notification Requirements for Grants and Cooperative Agreements contained in the Federal Register notice of October 1, 2001 (66 FR 49917), as amended by the Federal Register notice published on October 30, 2002 (67 FR 66109), are applicable to this solicitation.

Paperwork Reduction Act

This document contains collection-of-information requirements subject to the Paperwork Reduction Act (PRA). The use of Standard Forms 424 and 424A,424B, SF-LLL, and CD-346 has been approved by OMB under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: June 24, 2003.
James R. Walpole,
General Counsel, National Oceanic and Atmospheric Administration.

[FR Doc. 03-16434 Filed 6-27-03; 8:45 am]

BILLING CODE 3510-12-S